DEPARTMENT OF COMMERCE

National Oceanic and Atmospheric Administration

Agency Information Collection Activities; Submission to the Office of Management and Budget (OMB) for Review and Approval; Comment Request; North Pacific Fishery Management Council Cooperative Annual Reports

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 23, 2026.

ADDRESSES: Interested persons are invited to submit written comments to Adrienne Thomas, NOAA PRA Officer, at NOAA.PRA@noaa.gov. Please reference OMB Control Number 0648-0678 in the subject line of your comments. All comments received are part of the public record and will generally be posted on https://www.regulations.gov without change. Do not submit Confidential Business Information or otherwise sensitive or protected information.

FOR FURTHER INFORMATION CONTACT: Requests for additional information or specific questions related to collection activities should be directed to Mallarie Yeager, Marine Habitat Resource Specialist, National Marine Fisheries Service, P.O. Box 21668, Juneau, AK 99802-1668, (907) 586-7228, mallarie.yeager@noaa.gov.

SUPPLEMENTARY INFORMATION:

I. Abstract

This is a request for renewal of an approved information collection. The National Marine Fisheries Service (NMFS), Alaska Regional Office (AKR), is the sponsor of this information collection.

The North Pacific Fishery Management Council (Council) has developed cooperative programs as options in several fishery catch share programs. As part of cooperative programs, the Council and the National Marine Fisheries Service (NMFS) have required or requested that the cooperatives submit annual reports detailing various fishery activities. These reports are intended to be a resource for the Council to track the effectiveness of cooperatives and their ability to meet the Council's goals, and as way for NMFS to monitor the internal fishery management practices of cooperatives. Additionally, they are a tool for the cooperatives to provide feedback on the programs. This collection covers the following required and voluntary cooperative and inter-cooperative reports, agreements, and plans:

• The Alaska Crab Rationalization Program Cooperative Annual Report is voluntary and provides information about measures taken by cooperatives to increase the availability of crab quota share (QS) for transfer to active participants and crew members in the fishery, as well as actions to decrease high QS lease rates and improve low crew compensation.

• The Rockfish Program Cooperative Annual Report is a voluntary summary of cooperative harvests, retention, discards, monitoring methods, and disciplinary actions made within each Rockfish Program cooperative. Additionally, it contains voluntary reporting requirements including monthly chinook bycatch by origin, and intertemporal harvest information.

• The Amendment 80 Cooperative Annual Report is a required summary of cooperative harvests, discards, monitoring methods, disciplinary actions taken against non-compliant members, groundfish retention calculations, and a third-party audit. Voluntary elements of the report include catch from the Northern Bristol Bay Trawl Area, fleet catch capacity over time, and intertemporal harvest information. An additional voluntary element was added to this report in 2019 requesting information on cooperatives or other measures implemented to reduced bycatch in the BSAI yellowfin sole Trawl Limited Access Sector fishery by A80 participants.

• The Amendment 80 Halibut Prohibited Species Catch (PSC) Management Plan is a voluntary collection providing information to the Council about fishery cooperative halibut avoidance practices, communication between participating harvesters, use of halibut excluders, deck sorting, bycatch performance assessment of individual boats, incentives to reduce bycatch, and consequences for substandard performance.

• The American Fisheries Act Catcher Vessel Interco operative Agreement is voluntary and includes fishery allocations of cooperative members, penalties to members that exceed them, monitoring methods, limits on the amount of cod harvested by certain vessels. Procedures for Interco operative sideboard transfers and incentives for prohibited species catch reduction.

• The American Fisheries Act Cooperative Annual Report is required and must report the cooperative's pollock and sideboard allocations, sub-allocations made to individual vessels, retained and discarded catch, monitoring methods, actions taken against non-compliant members, any pollock landed outside the State of Alaska, and chinook bycatch including a list of vessels with the highest bycatch rates. An additional voluntary element was added to this report in 2019 requesting information on cooperatives or other measures implemented to reduce bycatch in the BSAI yellowfin sole Trawl Limited Access Sector fishery by AFA participants.

• The Pacific Cod Trawl Cooperative (PCTC) Annual Report is voluntary and provides information on the structure, function and operation of the cooperatives, including information on cooperative quota (CQ) leasing activities, and any penalties issued, harvest of CQ resulting from processor-held quota share (QS), cooperative membership, cooperative management, and performance (including implementation of the Aleutian Islands set-aside when in effect).

II. Method of Collection

Methods of submittal include text attachments to email, mail, and facsimile transmission.

III. Data

OMB Control Number: 0648-0678.

Form Number(s): None.

Type of Review: Regular submission [extension of a current information collection].

Affected Public: Businesses or other for-profit organizations.

Estimated Number of Respondents: 31.

Estimated Time per Response: Alaska Crab Rationalization Cooperative Annual Report, 30 hours; Rockfish Program Cooperative Annual Report, 45 hours; Amendment 80 Cooperative Annual Report, 40 hours; Amendment 80 Halibut Bycatch Avoidance Progress Report, 40 hours; Amendment 80 Halibut PSC Management Plan, 12 hours; American Fisheries Act Catcher Vessel Inter-cooperative Agreement, 40 hours; American Fisheries Act Catcher Vessel Inter-cooperative Report, 8 hours; American Fisheries Act Cooperative Annual Report, 8 hours. Pacific Cod Trawl Cooperative Annual Report, 18 hours.

Estimated Total Annual Burden Hours: 783 hours.

Estimated Total Annual Cost to Public: $15,255 in recordkeeping and/or reporting costs.

Respondent's Obligation: Voluntary or Mandatory.

Legal Authority: Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-00903 Filed 1-16-26; 8:45 am]

BILLING CODE 3510-22-P